DEPARTMENT OF TRANSPORTATION

Federal Highway Administration

Environmental Impact Statement; Clay and St. Johns Counties, Florida

AGENCY: Federal Highway Administration (FHWA), DOT.

ACTION: Notice of Intent.

SUMMARY: The FHWA is issuing this notice to advise the public that an Environmental Impact Statement (EIS) will be prepared for a proposed highway project in Clay and St. Johns Counties, Florida.

FOR FURTHER INFORMATION CONTACT: Greg Hall, Transportation Engineer, Federal Highway Administration, 545 John Knox Road, Suite 200, Tallahassee, Florida 32303, Telephone 850-942-9650.

SUPPLEMENTARY INFORMATION: The FHWA, in cooperation with the Florida Department of Transportation, will prepare an EIS for a proposal to connect the proposed SR 21/SR 23 Interchange (Blanding Boulevard/Branan-Field Chaffee Road) in Clay County eastward across the St. Johns River to either I-95, or to the southern extension of SR 9B in the vicinity of Racetrack Road in St. Johns County. The proposed action is based upon the population growth projections and regional transportation system needs. Alternatives under consideration include (1) Taking no action; (2) four lane roadways in Clay and St. Johns Counties with the St. Johns River crossing parallel to the existing Shands Bridge, and (3) four lane roadways in Clay and St. Johns counties with the St. Johns River crossing between the Buckman Bridge and the Shands Bridge.

Letters describing the proposed action and soliciting comments will be sent to appropriate Federal, State, and local agencies, and to private organizations and citizens who have expressed interest in this proposal. Public meetings were held in Clay and St. Johns Counties in November 2005 and August 2006. Public Workshops were held in Clay, St. Johns, and Duval Counties in August 2006. A Public Hearing will also be conducted. Public notice will be given of the time and place of the hearing. The Draft EIS will be made available for public and agency review and comment. An interagency coordination meeting was conducted in June 2006. The proposed project has received comment from agencies participating in Florida's Efficient Transportation Decision Making (ETDM) Process. These comments, and a summary of project related issues, can be viewed in the Environmental Screening Tool at http://etdmpub.fla-etat.org/. Additional project related information may also be viewed at the St. Johns River Crossing, Project Development & Environmental Study Web site at http://www.sjrbridge.com/documents.htm. There are no plans to hold a formal scoping meeting after this notice of intent to prepare an EIS. The information gained through agency meetings, the ETDM process, and public involvement will be used for scoping.

To ensure that the full range of issues related to the proposed action is addressed and all significant issues identified, comments and suggestions are invited from all interested parties. Comments or questions concerning this proposed action and the EIS should be directed to FHWA at the address provided above.

(Catalog of Federal Domestic Assistance Program Number 20.205, Highway Research, Planning and Construction. The regulations implementing Executive Order 12372 regarding inter-governmental consultation on Federal programs and activities apply to this program.)

Issued On: August 29, 2006.
Robert S. Wright,
Assistant Division Director, Tallahassee, Florida.

[FR Doc. E6-14621 Filed 9-1-06; 8:45 am]

BILLING CODE 4910-22-P